DEPARTMENT OF STATE

[Public Notice: 9978]

Shipping Coordinating Committee; Notice of Public Meeting

The Shipping Coordinating Committee (SHC) will conduct an open meeting at 9:00 a.m. on May 23, 2017, in the CDR Raymond J. Evans Conference Center, Room 6i10-01-a, of the Douglas A. Munro Coast Guard Headquarters Building at St. Elizabeth's, 2703 Martin Luther King Jr. Avenue SE., Washington, DC 20593. The primary purpose of the meeting is to prepare for the ninety-eighth session of the International Maritime Organization's (IMO) Maritime Safety Committee to be held at the IMO Headquarters, United Kingdom, June 7-16, 2017.

The agenda items to be considered include:

—Adoption of the agenda; report of credentials

—Decisions of other IMO bodies

—Consideration and adoption of amendments to mandatory instruments

—Early implementation/application of IMO instruments

—Measures to enhance maritime security

—Goal-based new ship construction standards

—Carriage of cargoes and containers (report of the third session of the Sub-Committee)

—Pollution prevention and response (report of the fourth session of the Sub-Committee)

—Human element, training and watch keeping (report of the fourth session of the Sub-Committee)

—Navigation, communications, search and rescue (report of the fourth session of the Sub-Committee)

—Ship systems and equipment (report of the fourth session of the Sub-Committee)

—Capacity building for the implementation of new measures

—Formal safety assessment

—Piracy and armed robbery against ships

—Unsafe mixed migration by sea

—Implementation of instruments and related matters

—Relations with other organizations

—Committee's organization and method of work

—Work program

—Any other business

—Consideration of the report of the Committee on its ninety-eighth session

Members of the public may attend this meeting up to the seating capacity of the room. Upon request to the meeting coordinator, members of the public may also participate via teleconference, up to the capacity of the teleconference phone line. To access the teleconference line, participants should call (202) 475-4000 and use Participant Code: 887 809 72. In order to ensure reasonable accommodation for all meeting participants, those who plan to attend should contact the meeting coordinator, LCDR Tiffany Duffy, by email at tiffany.a.duffy@uscg.mil, by phone at (202) 372-1376, or in writing at 2703 Martin Luther King Jr. Ave. SE., Stop 7509, Washington, DC 20593-7509 no later than May 15, 2017. Requests made after May 15, 2017 might not be able to be accommodated.

Please note that due to security considerations, two valid, government issued photo identifications must be presented to gain entrance to the Coast Guard Headquarters building. It is recommended that attendees arrive to the Headquarters building no later than 30 minutes ahead of the scheduled meeting for the security screening process. The Headquarters building is accessible by taxi, public transportation, and privately owned conveyance (upon request). Parking in the vicinity of the building is extremely limited and not guaranteed. Additional information regarding this and other SHC public meetings may be found at: www.uscg.mil/imo.

Jonathan W. Burby,
Executive Secretary, Shipping Coordinating Committee, Department of State.

[FR Doc. 2017-08552 Filed 4-27-17; 8:45 am]

BILLING CODE 4710-09-P